DEPARTMENT OF HEALTH AND HUMAN SERVICES

Centers for Disease Control and Prevention

[30Day-14-14RJ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Community Assessment for Public Health Emergency Response (CASPER)—New—National Center for Environmental Health (NCEH), Centers for Disease Control and Prevention (CDC).

Background and Brief Description

CDC requests a three-year approval for a new Generic Information Collection Request (ICR) for the Community Assessment for Public Health Emergency Response (CASPER). CASPER is an effective public health tool designed to quickly provide low-cost, household-based information about a community's needs and health status in a simple, easy-to-understand format for decision-makers. A CASPER can be conducted any time the public health needs of a community are not well known, including as part of disaster/emergency response to help inform decision making and distribution of resources, or in non-emergency settings to assess the public health needs of a community. In all situations, CASPER provides timely public health information that is essential when engaging in sound public health action.

In order for a CASPER to be initiated by CDC, a local, state, tribal, military, port, other federal agency, or international health authority or other partner organization must first invite CDC to participate in a CASPER. Communities are identified by local, state, or regional emergency managers and health department officers. The process for conducting a CASPER includes planning and preparation, field work, analysis, and sharing results with stakeholders. Planning can take 24 hours to several months depending on the type of CASPER being conducted. Field work takes approximately five days. Due to emergency situations under which CASPERs are often requested by states (e.g., hurricane response, oil spill), it is important that CDC has the ability to gain urgent approval for data collection.

The CASPER uses a validated statistical methodology that includes a two-stage probability sampling technique to collect information from a representative sample of 210 households in the community. Within the community, 30 clusters (typically census tracts) are selected based on probability proportional to size and, within each cluster, seven households are randomly selected for interview.

Participation in a CASPER questionnaire is voluntary. Consenting participants are not provided incentives for participating in the survey. Face-to-face interviews, usually taking 30 minutes or less, with one adult (≥ 18 years of age) from a selected household are recorded on paper or in electronic form. In general, yes/no and multiple choice questions are used to collect household level information including, but not limited to, the following categories: Housing unit type and extent of damage to the dwelling, household needs, physical and behavioral health status, perception and response to public health communications, household emergency preparedness, and greatest reported need. While a majority of CASPERs collect only household-level information, there may be instances where the questionnaires are modified to collect a small amount of individual level data.

Participants give verbal consent. Additionally, no data is collected that could link specific questionnaires to house addresses. Separate from the questionnaire, a tracking form is used to record the number of households visited, calculate response rates, and record households that should be revisited because a respondent was unavailable for interview. A complete addresses, including house number, street name, city, state, and zip code, are never recorded on any form. This information is not retained by CDC or entered into any database. There is no way to link data from the tracking form to specific household questionnaires.

Though each CASPER will be different, in general, personally identifying information is not collected. In a minimal number of CASPERs, interview teams may come across households with urgent needs that present an immediate threat to life or health, where calling emergency services immediately is not appropriate. In these instances, the team may refer the household to appropriate services using a referral form that is not attached to the questionnaire. In the scant instances where these forms are utilized, personally identifying information is collected. However, the forms go directly from the field team to the local CASPER coordinator for handling and rapid follow-up. When referral forms are used, the information is never retained by CDC or entered into any database. There is no way to link specific questionnaires to any information on the referral form.

The estimated annualized burden is 1,577 hours. The estimated burden is based on conducting 15 CASPERs per year, interviewing 210 households per CASPER, conducting 30 minute interviews per household, and completing 50 referral forms per year. There is no cost to respondents other than their time.

Estimated Annualized Burden Hours
Type of respondents | Form name | Number of respondents | Number of responses per respondent | Average burden per response (in hrs.)
Residents of the selected geographic area to be assessed | CASPER Questionnaire | 3,150 | 1 | 30/60
| Referral Form | 50 | 1 | 2/60

Leroy Richardson,
Chief, Information Collection Review Office, Office of Scientific Integrity, Office of the Associate Director for Science, Office of the Director, Centers for Disease Control and Prevention.

[FR Doc. 2014-13346 Filed 6-6-14; 8:45 am]

BILLING CODE 4163-18-P